DEPARTMENT OF COMMERCE

National Oceanic and Atmospheric Administration

50 CFR Part 679

[Docket No. 170816769-8162-02]

RIN 0648-XG675

Fisheries of the Exclusive Economic Zone Off Alaska; Reallocation of Pacific Cod in the Central Regulatory Area of the Gulf of Alaska

AGENCY: National Marine Fisheries Service (NMFS), National Oceanic and Atmospheric Administration (NOAA), Commerce.

ACTION: Temporary rule; reallocation.

SUMMARY: NMFS is reallocating the projected unused amounts of Pacific cod total allowable catch (TAC) from vessels using jig gear, catcher/processors using hook-and-line gear, and catcher vessels using trawl gear to catcher vessels less than 50 feet length overall (LOA) using hook-and-line gear, catcher vessels greater than or equal to 50 feet LOA using hook-and-line gear, vessels using pot gear, and catcher/processors using trawl gear in the Central Regulatory Area of the Gulf of Alaska (GOA). This action is necessary to allow the 2018 TAC of Pacific cod in the Central Regulatory Area of the GOA to be harvested.

DATES: Effective December 21, 2018 through 2400 hours, Alaska local time (A.l.t.), December 31, 2018.

FOR FURTHER INFORMATION CONTACT: Josh Keaton, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2018 Pacific cod TAC apportioned to vessels using jig gear in the Central Regulatory Area of the GOA is 61 metric tons (mt), as established by the final 2018 and 2019 harvest specifications for groundfish of the GOA (83 FR 8768, March 1, 2018). The Administrator, Alaska Region, NMFS, (Regional Administrator) has determined that vessels using jig gear will not be able to harvest 60 mt of the 2018 Pacific cod TAC allocated to those vessels under § 679.20(a)(12)(i)(B).

The 2018 Pacific cod TAC apportioned to catcher/processors using hook-and-line gear in the Central Regulatory Area of the GOA is 308 mt, as established by the final 2018 and 2019 harvest specifications for groundfish of the GOA (83 FR 8768, March 1, 2018). The Regional Administrator has determined that catcher/processors using hook-and-line gear will not be able to harvest 40 mt of the 2018 Pacific cod TAC allocated to those vessels under § 679.20(a)(12)(i)(B)(3).

The 2018 Pacific cod TAC apportioned to catcher vessels using trawl gear in the Central Regulatory Area of the GOA is 2,275 mt, as established by the final 2018 and 2019 harvest specifications for groundfish of the GOA (83 FR 8768, March 1, 2018). The Regional Administrator has determined that catcher vessels using trawl gear will not be able to harvest 580 mt of the 2018 Pacific cod TAC allocated to those vessels under § 679.20(a)(12)(i)(B)(4).

In accordance with § 679.20(a)(12)(ii)(B), the Regional Administrator has also determined that catcher vessels less than 50 feet LOA using hook-and-line gear, catcher vessels greater than or equal to 50 feet LOA using hook-and-line gear, vessels using pot gear, and catcher/processors using trawl gear currently have the capacity to harvest this excess allocation. Therefore, NMFS apportions 60 mt of Pacific cod from the jig vessel apportionment, 40 mt of Pacific cod from the hook-and-line catcher/processor apportionment, and 580 mt of Pacific cod from the trawl catcher vessel apportionment to catcher vessels less than 50 feet LOA using hook-and-line gear, catcher vessels greater than or equal to 50 feet LOA using hook-and-line gear, vessels using pot gear, and catcher/processors using trawl gear in the Central Regulatory Area of the GOA.

The harvest specifications for Pacific cod in the Central Regulatory Area of the GOA included in the final 2018 and 2019 harvest specifications for groundfish of the GOA (83 FR 8768, March 1, 2018) are revised as follows: 268 mt to catcher/processors using hook-and-line gear, 990 mt to catcher vessels less than 50 feet LOA using hook-and-line gear, 416 mt to catcher vessels greater than or equal to 50 feet LOA using hook-and-line gear, 1 mt to vessels using jig gear, 1,787 mt to vessels using pot gear, 700 mt to catcher/processors using trawl gear, and 1,695 mt to catcher vessels using trawl gear.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocations of Pacific cod in the Central Regulatory Area of the GOA. Since the fishery is currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of December 20, 2018.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: December 21, 2018.
Karen H. Abrams,
Acting Director, Office of Sustainable Fisheries, National Marine Fisheries Service.

[FR Doc. 2018-28367 Filed 12-21-18; 4:15 pm]

BILLING CODE 3510-22-P